NUCLEAR REGULATORY COMMISSION

Advisory Committee on Reactor Safeguards (ACRS); Meeting of the ACRS Subcommittee on ESBWR; Notice of Meeting

The ACRS Subcommittee on the Economic Simplified Boiling Water Reactor (ESBWR) will hold a meeting on July 21-22, 2009, 11545 Rockville Pike, Room T2-B3, Rockville, Maryland.

The entire meeting will be open to public attendance.

The agenda for the subject meeting shall be as follows:

Tuesday, July 21, 2009—8:30 a.m.-5 p.m.

Wednesday, July 22, 2009—8:30 a.m.-5 p.m.

The Subcommittee will review the Safety Evaluation Report with Open Items associated with the North Anna Combined License Application referencing the ESBWR design. The Subcommittee will hear presentations by and hold discussions with representatives of the NRC staff, General Electric Hitachi, Dominion, and other interested persons regarding this matter. The Subcommittee will gather information, analyze relevant issues and facts, and formulate proposed positions and actions, as appropriate, for deliberation by the full Committee.

Members of the public desiring to provide oral statements and/or written comments should notify the Designated Federal Official, Christopher Brown, (Telephone: 301-415-7111) five days prior to the meeting, if possible, so that appropriate arrangements can be made. Electronic recordings will be permitted only during those portions of the meeting that are open to the public. Detailed procedures for the conduct of and participation in ACRS meetings were published in the Federal Register on October 6, 2008 (73 FR 58268-58269).

Further information regarding this meeting can be obtained by contacting the Designated Federal Official between 6:45 a.m. and 3:30 p.m. (ET). Persons planning to attend this meeting are urged to contact the above named individual at least two working days prior to the meeting to be advised of any potential changes to the agenda.

Dated: June 25, 2009.
Cayetano Santos,
Chief, Reactor Safety Branch A, Advisory Committee on Reactor Safeguards.

[FR Doc. E9-15632 Filed 7-1-09; 8:45 am]

BILLING CODE 7590-01-P